INTER-AMERICAN FOUNDATION

Sunshine Act Meetings

Agenda for Meetings of the Board of Directors

April 5, 2005

10:30 p.m.-11:30 p.m.

The meeting was held via a conference call.

The meeting was closed as provided in 22 CFR Part 1004.4(f) to discuss matters related to the evaluation of candidates for the position of President of the Inter-American Foundation.

10:30 p.m. Call to order; Begin executive session.

11:30 p.m. Adjourn.

May 11, 2005

9:30 p.m.-12:30 p.m.

The meeting will be closed as provided in 22 CFR Part 1004.4(f) to discuss matters related to the evaluation of candidates for the position of President of the Inter-American Foundation.

The meeting will be held at Entergy Corporation, 101 Constitution Avenue, NW., Suite 200 East, Washington, DC 20001.

9:30 p.m. Call to order; Begin executive session.

12:30 p.m. Adjourn.

Jocelyn Nieva,
Acting General Counsel.

[FR Doc. 05-8762 Filed 4-28-05; 10:19 am]

BILLING CODE 7025-01-M